DEPARTMENT OF THE INTERIOR

Fish and Wildlife Service

50 CFR Part 17

RIN 1018-AG09

Endangered and Threatened Wildlife and Plants; Proposed Endangered Status for Three Plants From the Mariana Islands and Guam

AGENCY: Fish and Wildlife Service, Interior.

ACTION: Proposed rule; reopening of comment period.

SUMMARY: The U.S. Fish and Wildlife Service (Service), pursuant to the Endangered Species Act of 1973, as amended (Act), provides notice of the reopening of the comment period on the proposed endangered status for three plants (no common names), Nesogenes rotensis, Osmoxylon mariannense, and Tabernaemontana rotensis, to allow peer reviewers and all interested parties to submit comments on the proposal. Comments already submitted on the June 1, 2000, proposed rule need not be resubmitted as they will be fully considered in the final determination.

DATES: Comments from all interested parties must be received by January 26, 2004.

ADDRESSES: Comments and materials concerning the proposal should be sent to the Acting Field Supervisor, Pacific Islands Office, U.S. Fish and Wildlife Service, 300 Ala Moana Boulevard, Room 3-122, Box 50088, Honolulu, HI 96850. For further instructions on commenting, refer to the Public Comments Solicited section of this notice.

FOR FURTHER INFORMATION CONTACT: Gina Schultz, Acting Field Supervisor, at the above address (telephone 808-792-9400; facsimile 808-792-9580).

SUPPLEMENTARY INFORMATION:

Background

On June 1, 2000, we published a proposed rule to list Nesogenes rotensis, Osmoxylon mariannense, and Tabernaemontana rotensis as endangered species (65 FR 35025). At the time of the proposed listing, we also proposed that designation of critical habitat for these three species was prudent.

Nesogenes rotensis, Osmoxylon mariannense, and Tabernaemontana rotensis all occur on the island of Rota in the Commonwealth of Northern Mariana Islands (CNMI); only Tabernaemontana rotensis is found in the United States Territory of Guam. On Rota, Osmoxylon mariannense and Tabernaemontana rotensis occur on private lands; Nesogenes rotensis occurs on public park land (Poña Point Fishing Cliff) owned by the CNMI under jurisdiction of the Department of Lands and Natural Resources. On Guam, Tabernaemontana rotensis occurs on private and Federal lands (Andersen Air Force Base). Currently, there are at least 250 individuals of Tabernaemontana rotensis known on Guam and at least 8 individuals on Rota. Only 80 individuals of Nesogenes rotensis and 8 individuals of Osmoxylon mariannense occur on Rota. The three plant species and their habitats have been affected or are now threatened by one or more of the following: habitat degradation or destruction by feral deer and pigs; competition for space, light, water, and nutrients with introduced vegetation; road construction and maintenance activities; recreational activities; natural disasters or random environmental events; fire; vandalism; development of agricultural homesteads; resorts and golf courses; limited reproductive vigor; and potential insect, mouse, or rat predation.

In our June 1, 2000, proposed rule and associated notifications, we requested that all interested parties submit comments, data, or other information that might contribute to the development of a final rule. A 60-day comment period closed on July 31, 2000. Appropriate CNMI and Government of Guam agencies, Federal agencies and other interested parties were contacted and requested to comment. A legal notice announcing the publication of the listing proposal was published in the Marianas Variety newspaper on June 16, 2000 and the Pacific Daily News on June 23, 2000. During this period we received one request for a public hearing from the CNMI Department of Fish and Wildlife. On October 30, 2000, we gave notice in the Federal Register (65 FR 64649) and the Marianas Variety of the public hearing to be held on the island of Rota and reopened the public comment period until November 29, 2000. On November 16, 2000, we held a public hearing at the Rota Resort, Rota.

Our final listing decision for Nesogenes rotensis, Osmoxylon mariannense, and Tabernaemontana rotensis was deferred due to lack of resources because the Service's Pacific Islands Office (where the proposed listing was initiated) staff were under Federal court-orders to designate critical habitat for 255 Hawaiian plants and four Hawaiian invertebrates. Pursuant to a settlement agreement approved by the United States District Court for the District of Hawaii on August 21, 2002, the Service must make a final decision on this proposal by April 1, 2004, (Center for Biological Diversity v. Norton, Civil No. 99-00603 (D. Haw.)).

Comments already submitted on the June 1, 2000, proposed rule need not be resubmitted as they will be fully considered in the final determination.

Public Comments Solicited

When we published the proposed rule, we solicited scientific and technical peer review from three appropriate and independent specialists—biologists with expertise in the fields of botany or Pacific Islands ecology. We did not receive any comments from these reviewers during the original comment period. We believe that because 3 years have passed since publication of the proposed rule, that additional review is warranted at this time. In order to address any additional comments received in response to reopening the comment period and to meet the August 21, 2002, court order to submit to the Federal Register a final listing decision for these three plants no later than April 1, 2004, we are reopening the comment period until the date specified in DATES. The reopening of the comment period gives additional time for all interested parties to consider the proposed rule's information and submit comments on the proposal. We seek comments especially concerning:

(1) Biological, commercial trade, or other relevant data concerning any threat (or lack thereof) to these species;

(2) The location of any additional populations of these species and reasons why any habitat should or should not be designated as critical habitat;

(3) Additional information on the range, distribution, and population size of these species; and

(4) Current or planned activities in the subject area and their possible impacts on these species.

If you wish to comment, you may submit your comments and materials concerning the proposal by any of the following methods:

(1) You may submit written comments and information to the Acting Field Supervisor, U.S. Fish and Wildlife Service, Pacific Islands Office, 300 Ala Moana Blvd., P.O. Box 50088, Honolulu, HI 96850-0001.

(2) You may send comments by electronic mail (e-mail) to: Mariana_3Plants@r1.fws.gov. If you submit comments by e-mail, please submit them as an ASCII file and avoid the use of special characters and any form of encryption. Please also include “Attn: RIN 1018-AG09” and your name and return address in your e-mail message. If you do not receive a confirmation from the system that we have received your e-mail message, contact us directly by calling our Honolulu Fish and Wildlife Office at telephone number 808/792-9400.

(3) You may hand-deliver comments to our Honolulu Fish and Wildlife Office at the address given above.

Comments and materials received, as well as supporting documentation used in preparation of the proposal to list Nesogenes rotensis, Osmoxylon mariannense, and Tabernaemontana rotensis as endangered species, will be available for inspection, by appointment, during normal business hours at our Honolulu Fish and Wildlife Office at the address given above.

Author

The primary author of this notice is John Nuss, U.S. Fish and Wildlife Service, 911 NE 11th Avenue, 4th Floor, Portland, Oregon, 97232-4181.

Authority

The authority for this action is the Endangered Species Act of 1973 (16 U.S.C. 1531 et seq.).

Dated: December 11, 2003.
Steve Williams,
Director, Fish and Wildlife Service.

[FR Doc. 04-384 Filed 1-8-04; 8:45 am]

BILLING CODE 4310-55-P